DEPARTMENT OF LABOR

Employment and Training Administration

[TA-W-52,694]

Apparel Ventures, Inc., South Gate, California; Notice of Termination of Investigation

Pursuant to Section 221 of the Trade Act of 1974, as amended, an investigation was initiated on August 27, 2003, in response to a petition filed by a company official on behalf of workers at Apparel Ventures, Inc., South Gate, California.

The petitioner has requested that the petition be withdrawn. Consequently, the investigation has been terminated.

Signed at Washington, DC, this 9th day of September, 2003.
Richard Church,
Certifying Officer, Division of Trade Adjustment Assistance.

[FR Doc. 03-25732 Filed 10-9-03; 8:45 am]

BILLING CODE 4510-30-P